DEPARTMENT OF HOUSING AND URBAN DEVELOPMENT

[Docket No. FR-5849-N-02]

Notice of a Federal Advisory Committee Meeting: Manufactured Housing Consensus Committee General Subcommittee Teleconference

AGENCY: Office of the Assistant Secretary for Housing—Federal Housing Commissioner, Department of Housing and Urban Development (HUD).

ACTION: Notice of a Federal Advisory Committee Meeting: Manufactured Housing Consensus Committee (MHCC).

SUMMARY: This notice sets forth the schedule and proposed agenda for a teleconference meeting of the MHCC, General Subcommittee. The teleconference meeting is open to the public. The agenda provides an opportunity for citizens to comment on the business before the MHCC.

DATES: The teleconference meeting will be held on May 5, 2015, 1:00 p.m. to 4:00 p.m. Eastern Standard Time (EST). The teleconference numbers are: US toll-free: 1-877-336-1829, and Access Code: 8764141.

FOR FURTHER INFORMATION CONTACT: Pamela Beck Danner, Administrator and Designated Federal Official (DFO), Office of Manufactured Housing Programs, Department of Housing and Urban Development, 451 Seventh Street SW., Room 9166, Washington, DC 20410, telephone 202-708-6423 (this is not a toll-free number). Persons who have difficulty hearing or speaking may access this number via TTY by calling the toll-free Federal Information Relay Service at 800-877-8339.

SUPPLEMENTARY INFORMATION: Notice of this meeting is provided in accordance with the Federal Advisory Committee Act, 5. U.S.C. App. 10(a)(2) through implementing regulations at 41 CFR 102-3.150. The MHCC was established by the National Manufactured Housing Construction and Safety Standards Act of 1974, (42 U.S.C. 5401 et seq.) as amended by the Manufactured Housing Improvement Act of 2000 (Pub. L. 106-569). According to 42 U.S.C. 5403, as amended, the purposes of the MHCC are to:

• Provide periodic recommendations to the Secretary to adopt, revise, and interpret the Federal manufactured housing construction and safety standards;

• Provide periodic recommendations to the Secretary to adopt, revise, and interpret the procedural and enforcement regulations, including regulations specifying the permissible scope and conduct of monitoring; and

• Be organized and carry out its business in a manner that guarantees a fair opportunity for the expression and consideration of various positions and for public participation.

The MHCC is deemed an advisory committee not composed of Federal employees.

Public Comment: Citizens wishing to make oral comments on the business of the MHCC are encouraged to register by or before April 24, 2015 using the following email address: mhcc@homeinnovation.com; or mail to Home Innovation, 400 Prince Georges Blvd., Upper Marlboro, MD 20774; Attention: Kevin Kauffman. Written comments are encouraged. The MHCC strives to accommodate citizen comments to the extent possible within the time constraints of the meeting agenda. Advance registration is strongly encouraged. The MHCC will also provide an opportunity for public comment on specific matters before the General Subcommittee.

Tentative Agenda

May 5, 2015, from 1:00 p.m. to 4:00 p.m. Eastern Standard Time (EST)

I. Call to Order and Roll Call

II. Opening Remarks: Subcommittee Chair and DFO

III. Approve draft minutes from February 11, 2015 Teleconference

IV. New Business—Multifamily Aspect of Manufactured Housing Task Force Report by Dave Tompos

V. Open Discussion

VI. Adjourn: 4:00 p.m.

Dated: April 3, 2015.
Pamela Beck Danner,
Administrator, Office of Manufactured Housing Programs.

[FR Doc. 2015-08055 Filed 4-7-15; 8:45 am]

BILLING CODE 4210-67-P